DEPARTMENT OF TRANSPORTATION

Federal Railroad Administration

Environmental Impact Statement for Tulsa—Oklahoma City Passenger Rail Corridor, Oklahoma, Lincoln, Creek, and Tulsa Counties, OK

AGENCY: Federal Railroad Administration (FRA), DOT.

ACTION: Notice of Intent to prepare an Environmental Impact Statement (EIS).

SUMMARY: FRA is issuing this notice to advise the public that FRA and the Oklahoma Department of Transportation (ODOT) Rail Division intend to prepare an EIS pursuant to the National Environmental Policy Act of 1969 (NEPA) for the State of Oklahoma High-Speed Rail Initiative: Tulsa—Oklahoma City Passenger Rail Corridor Investment Plan in Oklahoma, Lincoln, Creek, and Tulsa counties, Oklahoma. The EIS will evaluate passenger rail alternatives for the approximately 106-mile corridor between Tulsa and Oklahoma City, which currently has no passenger rail service. This corridor is part of the South Central High Speed Rail Corridor and is a federally-designated high-speed rail (HSR) corridor. ODOT envisions the Tulsa—Oklahoma City passenger rail corridor to be a new, dedicated HSR line for the majority of its length.

DATES: FRA invites the public, governmental agencies, and all other interested parties to comment on the scope of the EIS. All such comments should be provided in writing, within thirty (30) days of the publication of this notice, at the address listed below. Comments may also be provided orally or in writing at the scoping meetings for the Project. Scoping meeting dates, times and locations, in addition to related Project information can be found online at www.TulsaOKCRailCorridor.com.

ADDRESSES: Written comments on the scope of the EIS may be mailed or emailed within thirty (30) days of the publication of this notice to Catherine Dobbs, Transportation Industry Analyst, Office of Railroad Policy and Development, Federal Railroad Administration, 1200 New Jersey Avenue SE., Washington, DC 20590, or catherine.dobbs@dot.gov; or Johnson Bridgwater, Federal Programs Manager, Oklahoma Department of Transportation Rail Division, 200 NE. 21st Street, Oklahoma City, OK 73105-3204.

FOR FURTHER INFORMATION CONTACT: Catherine Dobbs, Transportation Industry Analyst, Federal Railroad Administration, 1200 New Jersey Avenue SE., Washington 20590, telephone (202) 493-6347, catherine.dobbs@dot.gov, or Johnson Bridgwater, Federal Programs Manager, Oklahoma Department of Transportation Rail Division, 200 NE. 21st Street, Oklahoma City, OK 73105-3204, telephone (405) 521-4203.

Environmental Review Process: The EIS will be prepared in accordance with the National Environmental Policy Act of 1969 (NEPA), the Council on Environmental Quality (CEQ) regulations implementing NEPA and the FRA's Procedures for Considering Environmental Impacts as set forth in 64 FR 28545 dated May 26, 1999 (Environmental Procedures). The EIS will also address Section 106 of the National Historic Preservation Act, Section 4(f) of the U.S. Department of Transportation Act of 1966 (49 U.S.C. 303) and other applicable Federal and state laws and regulations. The study will result in a NEPA document that will address overall issues of concern, including but not limited to:

• Describing the purpose and need for the proposed action.

• Describing the environment likely to be affected by the proposed action.

• Developing evaluation criteria to identify alternatives that meet the purpose and need of the proposed action.

• Identifying the range of reasonable alternatives that satisfy the purpose and need for the proposed action.

• Developing the no-build alternative to serve as a baseline for comparison.

• Describing and evaluating the potential environmental impacts and mitigation associated with the proposed alternatives.

SUPPLEMENTARY INFORMATION: The Federal Railroad Administration, in cooperation with the Oklahoma Department of Transportation (ODOT), will prepare the EIS for the State of Oklahoma High-Speed Rail Initiative: Tulsa—Oklahoma City Passenger Rail Corridor Investment Plan. The proposed route would begin in Oklahoma City at the Santa Fe Depot and proceed easterly toward Tulsa, terminating at the Union Station in Tulsa. This route is an important component of the South Central High-Speed Rail Corridor. Passenger trains would travel at speeds up to 125 miles per hour. As part of the EIS, various alternative rail line routes will be analyzed including shared use options with the BNSF Railway, Union Pacific Railroad, Stillwater Central Railroad and the Tulsa Sapulpa Union Railway. Dedicated high-speed passenger rail lines and/or a combination of dedicated and shared use corridors will also be considered. In addition, the EIS will analyze the potential impacts of locations/modifications of stations, power or fueling stations, and maintenance facilities to support passenger rail operations.

The EIS will complete an analysis of passenger rail alternatives in the study area and evaluate the environmental impacts using a combination of Geographic Information System (GIS) data, field investigations and site visits/sampling where necessary. The primary environmental resources located within the study area that may be affected are: Agricultural, residential, commercial, and industrial properties; streams and floodplains; wetlands; and open space. FRA and ODOT will seek to avoid and minimize impacts to these resources, as well as cultural resources and protected lands. Minimization and mitigation measures will be identified and committed to within the EIS where appropriate.

In accordance with the NEPA, the FRA and ODOT will invite comments and suggestions regarding the scope of the project from all interested parties to ensure that all issues are addressed related to this proposal and any significant impacts are identified. Letters describing the proposed action and soliciting comments will be sent to appropriate federal, state, and local agencies, Native American tribes, and private organizations who might have previously expressed or who are known to have an interest in this project. Federal agencies with jurisdiction by law or special expertise with respect to potential environmental issues will be requested to act as a Cooperating Agency in accordance with 40 CFR 150.16.

ODOT will lead the outreach activities beginning with scoping meetings (dates to be determined). Public involvement initiatives including public meetings, project Web site, and outreach will be held throughout the course of this study. Opportunities for public participation will be announced through mailings, notices, advertisements, press releases and a project Web site, accessible at www.TulsaOKCRailCorridor.com. One or more public hearings will be held after the draft EIS is released and made available for public and agency review. Public notice will be given for the time and place of public hearings.

Comments or questions concerning this proposed action and the EIS are invited from all interested parties and should be directed to the FRA at the address provided above.

Issued in Washington, DC, on May 15, 2013.
Corey Hill,
Director, Office of Passenger and Freight Programs.

[FR Doc. 2013-12565 Filed 5-24-13; 8:45 am]

BILLING CODE 4910-06-P